DEPARTMENT OF LABOR

Mine Safety and Health Administration

[OMB Control No. 1219-0001]

Proposed Extension of Information Collection: Certificate of Electrical Training and Applications for MSHA Approved Tests and State Tests Administered as Part of an MSHA-Approved State Program

AGENCY: Mine Safety and Health Administration, Labor.

ACTION: Request for public comments.

SUMMARY: The Department of Labor (DOL), as part of its continuing effort to reduce paperwork and respondent burden, conducts a pre-clearance consultation program for all information collections to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Certificate of Electrical Training and Applications for MSHA Approved Tests and State Tests Administered as Part of an MSHA-Approved State Program.”

DATES: All comments must be received on or before September 2, 2025.

ADDRESSES: Comments concerning the information collection requirements of this notice may be sent by any of the methods listed below. Please note that late comments received after the deadline will not be considered.

• Federal E-Rulemaking Portal:https://www.regulations.gov. Follow the on-line instructions for submitting comments for docket number MSHA-2025-0033.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: Jessica Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

The Paperwork Reduction Act of 1995 (PRA) governs paperwork burdens imposed on the public by Federal agencies using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information under the information collection request (ICR) titled “Certificate of Electrical Training and Applications for MSHA Approved Tests and State Tests Administered as Part of an MSHA-Approved State Program.” The information collection is intended to monitor coal miners' qualifications to perform electrical work and to ensure mine operators' compliance with MSHA-approved safety training programs.

Burden costs associated with this ICR include:

1. Instructors submitting MSHA Form 5000-1 to establish that a person is qualified to perform electrical work, or establish that an already qualified person may retain their qualification; and

2. New applicants submitting evidence of eligibility; at least 1 year of relevant electrical work experience.Authorization and the associated rule text are described below.

Under section 305(g) of the Mine Act, 30 U.S.C. 865(g), all electric equipment must be frequently examined, tested, and properly maintained by a qualified person to ensure safe operating conditions.

Under 30 CFR 75.153(a) and 77.103(a), an individual is a qualified person to perform electrical work on equipment such as low-, medium-, or high-voltage distribution circuits or equipment or electric equipment (other than work on energized surface high-voltage lines) if:

(1) They have been qualified as a coal mine electrician by a State that has a coal mine electrical qualification program approved by the Secretary; or

(2) They have has at least 1 year of experience performing electrical work underground in a coal mine, in the surface work area of an underground coal mine, in a surface coal mine, in a non-coal mine, in the mine equipment manufacturing industry, or in any other industry using or manufacturing similar equipment and have satisfactorily completed a coal mine electrical training program approved by the Secretary; or,

(3) They have at least 1 year of experience prior to the date of application, in performing electrical work underground in a coal mine, in the surface work area of an underground coal mine, in a surface coal mine, in a non-coal mine, in the mine equipment manufacturing industry, or in any other industry using or manufacturing similar equipment, and they attain a satisfactory grade on each of five written tests approved by the Secretary and prescribed in 30 CFR 75.153(b) and 77.103(b). Under 30 CFR 75.153(b) and 77.103(b), the series of five written tests approved by the Secretary must include the following categories:

(1) Direct current theory and application;

(2) Alternating current theory and application;

(3) Electric equipment and circuits;

(4) Permissibility of electric equipment; and,

(5) Requirements of electrical equipment including general electrical equipment, trailing cables, grounding, high-voltage distribution, low- and medium-voltage alternating current circuits, and trolley wires and trolley feeder wires.

Under 30 CFR 75.153(c) and 30 CFR 77.103(c), to take the series of five written tests approved by the Secretary, an individual must apply to the District Manager and must certify that they meet the requirement of at least 1 year of relevant electrical work experience prior to the date of application. The tests will be administered in the Districts at regular intervals, or as demand requires.

Under 30 CFR 75.153(g) and 30 CFR 77.103(g), to retain their qualification in accordance with this section, an individual must certify annually to the District Manager that they have satisfactorily completed a coal mine electrical retraining program approved by the Secretary.

II. Desired Focus of Comments

MSHA is soliciting comments concerning the proposed information collection titled “Certificate of Electrical Training and Applications for MSHA Approved Tests and State Tests Administered as Part of an MSHA-Approved State Program.” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request is available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the information collection requirements may be directed to the person listed in the FOR FURTHER INFORMATION CONTACT section of this notice.

III. Current Actions

This information collection request concerns provisions for Certificate of Electrical Training and Applications for MSHA Approved Tests and State Tests Administered as Part of an MSHA-Approved State Program. MSHA has updated the data with respect to the number of respondents, responses, time burden, and burden costs supporting this information collection request from the previous information collection request.

Type of Review: Extension, without change, of a currently approved collection.

Agency: Mine Safety and Health Administration.

OMB Number: 1219-0001.

Affected Public: Business or other for-profit entity.

Number of Annual Respondents: 248.

Frequency: On occasion.

Number of Annual Responses: 1,512

Annual Time Burden: 695 hours.

Annual Other Burden Costs: $331.

MSHA Form: MSHA Form 5000-1, Certificate of Electrical Training.

Comments submitted in response to this notice will be summarized and included in the request for Office of Management and Budget approval of the proposed information collection request; they will become a matter of public record and be available at https://www.reginfo.gov.

Jessica Senk,
Certifying Officer, Mine Safety and Health Administration.

[FR Doc. 2025-12435 Filed 7-2-25; 8:45 am]

BILLING CODE 4510-43-P